DEPARTMENT OF HEALTH AND HUMAN SERVICES

Centers for Disease Control and Prevention

Disease, Disability, and Injury Prevention and Control Special Emphasis Panel: Prevention Research Centers Applications Review and Approval, Program Announcement #04003

In accordance with section 10(a)(2) of the Federal Advisory Committee Act (Pub. L. 92-463), the Centers for Disease Control and Prevention (CDC) announces the following meeting:

Name: Disease, Disability, and Injury Prevention and Control Special Emphasis Panel (SEP): Prevention Research Centers Applications Review and Approval, Program Announcement #04003.

Times and Dates: 8:30 a.m.-9 a.m., July 22, 2003 (Open); 9:00 a.m.-5 p.m., July 22,2003 (Closed); 9:00 a.m.-12 p.m., July 23, 2003 (Closed).

Place: Sheraton Colony Square Hotel, 188 14th Street NE., Atlanta, GA, 30361 Telephone 404.892.6000.

Status: Portions of the meeting will be closed to the public in accordance with provisions set forth in Section 552b(c) (4) and (6), Title 5 U.S.C., and the Determination of the Director, Management Analysis and Services Office, CDC, pursuant to Pub. L. 92-463.

Matters to be Discussed: The meeting will include the review, discussion, and evaluation of applications received in response to Program Announcement #04003.

Contact Person for More Information: Michael Waller, Deputy Director, Division of Adult and Community Health, National Center for Chronic Disease Prevention and Health Promotion, CDC, 4770 Buford Highway, MS-K-45, Atlanta, GA, 30341, Telephone 404.498.3374.

The Director, Management Analysis and Services Office, has been delegated the authority to sign Federal Register notices pertaining to announcements of meetings and other committee management activities, for both CDC and the Agency for Toxic Substances and Disease Registry.

Dated: June 24, 2003.
John Burkhart,
Acting Director, Management Analysis and Services Office, , Centers for Disease Control and Prevention.

[FR Doc. 03-16529 Filed 6-30-03; 8:45 am]

BILLING CODE 4163-18-P